DEPARTMENT OF ENERGY

Secretary of Energy Advisory Board Meeting; Correction

AGENCY: Department of Energy.

ACTION: Notice of open meeting; Correction.

SUMMARY: The Department of Energy (DOE), on September 10, 2015, published a notice of open meeting announcing an open meeting of the Secretary of Energy Advisory Board. Due to the scheduled transportation delays and security issues near the meeting venue, the meeting is being rescheduled. The date is now October 15, 2015, 8:30 a.m.-12:30 p.m. As a result, the language is being corrected in this notice.

Corrections

In the Federal Register of September 10, 2015, in FR DOC. 2015-22809, on pages 54558-54559, please make the following corrections:

In the DATES heading, third column, first and second lines, replace text with “Thursday, October 15, 2015, 8:30 a.m.-12:30 p.m. (EDT)”.

In the SUPPLEMENTARY INFORMATION heading, Tentative Agenda: third column, twelfth line, please remove “September 25th” and replace with “October 15th.” And under Public Participation, twenty-fifth line, please remove “Monday, September 21, 2015”, and replace text with “Friday, October 9, 2015”.

On page 54559, first column, twenty-first line, please remove “September 25th” and replace text with “October 15th”.

Issued in Washington, DC, on September 11, 2015.
LaTanya R. Butler,
Deputy Committee Management Officer.

[FR Doc. 2015-23372 Filed 9-16-15; 8:45 am]

BILLING CODE 6450-01-P